DEPARTMENT OF THE TREASURY

Alcohol and Tobacco Tax and Trade Bureau

27 CFR Part 9

[TTB Notice No. 6; Re: ATF Notice Nos. 960 and 966]

RIN: 1512-AC76

Red Hill (Oregon) Viticultural Area (2001R-88P)

AGENCY: Alcohol and Tobacco Tax and Trade Bureau (TTB), Treasury.

ACTION: Notice of proposed rulemaking; reopening of comment period.

SUMMARY: TTB reopens the comment period for Notice No. 960, a notice of proposed rulemaking published in the Federal Register on October 30, 2002, and subsequently reopened for an additional 60 days on January 16, 2003. The proposed rule would add Red Hill (Oregon) as an approved American viticultural area and amend 27 CFR part 9. We are acting on a request to extend the comment period in order to provide sufficient time for all interested parties to respond to the issues raised in the notice.

DATES: Written comments must be received on or before May 27, 2003.

ADDRESSES: You may send comments to any of the following addresses:

• Chief, Regulations and Procedures Division, Alcohol and Tobacco Tax and Trade Bureau, P.O. Box 50221, Washington, DC 20091-0221 (Attn: Notice No. 960);

• 202-927-8525 (Facsimile);

• NPRM@ttb.gov (E-mail);

• http://www.ttb.gov (An online comment form is posted with this notice on our Web site.)

You may view copies of the notice of proposed rulemaking, the requests for extension of the comment period, and any comments received on the notice by appointment at the ATF Reference Library, Room 6480, 650 Massachusetts Avenue, NW., Washington, DC 20226, or under Notice No. 960 at http://www.ttb.gov/alcohol/rules/index.htm.

FOR FURTHER INFORMATION CONTACT: Tim DeVanney, Regulations and Procedures Division, Alcohol and Tobacco Tax and Trade Bureau, 650 Massachusetts Avenue, NW., Washington, DC 20226; telephone 202-927-8210; e-mail TPDevanney@ttb.gov.

SUPPLEMENTARY INFORMATION:

Background

On October 30, 2002, TTB (part of the Bureau of Alcohol, Tobacco and Firearms (ATF) at that time) published two notices of proposed rulemaking (Notice No. 960, 67 FR 66079 and Notice No. 961, 67 FR 66083) to establish Red Hill (Oregon) and Red Hills (California) as American viticultural areas, respectively. The comment period ended on December 30, 2002. Before the close of the comment period, TTB received a request from Mr. Sean Carlton, of Archery Summit, a winery in Dayton, Oregon, to extend the comment period for an additional 60 days. Mr. Carlton requested the extension to allow more time to study the petitions and research the respective areas. The new comment period opened on January 16, 2003, and closed on March 17, 2003.

On March 17, 2003, TTB received a request to extend the comment period for an additional 60 days. Mr. Jess Lyon, of Davis Wright Tremaine, LLP, made this request in order to make a full assessment of the Red Hill petition. Mr. Lyon stated that he did not receive the petitioner's material in a timely manner.

In consideration of the above, TTB reopens the comment period for an additional 30 days. By the time this document is published in the Federal Register, the new closing date will be in excess of the 60 days Mr. Lyon requested.

Public Participation

See the “Public Participation” section of Notice No. 960 for detailed instructions on submitting and reviewing comments. Comments received on or before the new closing date will be carefully considered.

TTB will not recognize any submitted material as confidential and comments may be disclosed to the public. Any material that the commenter considers confidential or inappropriate for disclosure to the public should not be included in the comments. The name of the person submitting a comment is not exempt from disclosure.

Drafting Information

Tim DeVanney of the Regulations and Procedures Division, Alcohol and Tobacco Tax and Trade Bureau, drafted this notice.

List of Subjects in 27 CFR Part 9

Wine.

Authority and Issuance

Notice No. 960 was issued under the authority of 27 U.S.C. 205.

Signed: April 18, 2003.
Arthur J. Libertucci,
Administrator.

[FR Doc. 03-10095 Filed 4-23-03; 8:45 am]

BILLING CODE 4810-31-P